DEPARTMENT OF JUSTICE

Parole Commission

Public Announcement Pursuant to the Government in the Sunshine Act (Pub. L. 94-409) [5 U.S.C. Section 552b]

AGENCY HOLDING MEETING: Department of Justice, United States Parole Commission.

TIME AND DATE: 10 a.m., September 9, 2010.

PLACE: 5550 Friendship Blvd., Fourth Floor, Chevy Chase, MD 20815.

STATUS: Open.

MATTERS TO BE CONSIDERED: The following matters have been placed on the agenda for the open Parole Commission meeting:

1. Approval of Minutes May 6, 2010 Quarterly Business Meeting.

2. Reports from the Chairman, Commissioners and Section Administrators.

3. Consideration of proposed rule regarding rating of crack cocaine offenses.

4. Conditions for sex offenders.

AGENCY CONTACT: Patricia W. Moore, Staff Assistant to the Chairman, United States Parole Commission, (301) 492-5933.

Dated: September 3, 2010.
Rockne J. Chickinell,
General Counsel, U.S. Parole Commission.

[FR Doc. 2010-22690 Filed 9-8-10; 11:15 am]

BILLING CODE 4410-31-M